DEPARTMENT OF TRANSPORTATION

National Highway Traffic Safety Administration

[Docket No. NHTSA-2016-0098; Notice 1]

General Motors LLC, Receipt of Petition To Amend Takata DIR Schedule

AGENCY: National Highway Traffic Safety Administration (NHTSA), Department of Transportation.

ACTION: Receipt of petition.

SUMMARY: General Motors, LLC (GM) has petitioned the Agency to alter the Part 573 defect information report (DIR) filing schedule set forth in paragraph 14 of the May 4, 2016 Amendment to November 3, 2015 Consent Order between NHTSA and TK Holdings Inc. (“Takata”). More specifically, GM has requested that NHTSA modify the DIR schedule with respect to certain GM-branded motor vehicles from December 31, 2016 to December 31, 2017.

DATES: The closing date for comments on the petition is October 4, 2016.

ADDRESSES: Interested persons are invited to submit written data, views, and arguments regarding this petition. Comments must refer to the docket and notice number cited in the title of this notice and be submitted by one of the following methods:

• Internet: Go to http://www.regulations.gov and follow the online instructions for submitting comments.

• Mail: Docket Management Facility, M-30, U.S. Department of Transportation, 1200 New Jersey Avenue SE., West Building, Room W12-140, Washington, DC 20590.

• Hand Delivery or Courier: U.S. Department of Transportation, 1200 New Jersey Avenue SE., West Building, Room W12-140, Washington, DC 20590 between 9 a.m. and 5 p.m. Eastern Time, Monday through Friday, except Federal holidays.

• Facsimile: (202) 493-2251.

You may call the Docket at (202) 366-9324.

Note that all comments received will be posted without change to http://www.regulations.gov, including any personal information provided. Thus, submitting such information makes it public. You may wish to read the Privacy Act notice, which can be viewed by clicking on the “Privacy and Security Notice” link in the footer of http://www.regulations.gov. DOT's complete Privacy Act Statement is available for review in the Federal Register published on April 11, 2000 (65 FR 19477-78).

The petition, supporting materials, and all comments received before the close of business on the closing date indicated above will be filed in the docket and will be considered. Comments and supporting materials received after the closing date will also be filed and will be considered to the extent possible. When the petition is granted or denied, notice of the decision will also be published in the Federal Register pursuant to the authority indicated at the end of this notice.

SUPPLEMENTARY INFORMATION:

I. Background

On May 4, 2016, NHTSA issued, and Takata agreed to, an Amendment to the November 3, 2015 Consent Order (the “Amendment”), under which Takata is bound to declare a defect in all driver and passenger inflators that contain an ammonium nitrate-based propellant and do not contain a moisture-absorbing desiccant. Such defect declarations are to be made on a rolling basis. See Amendment at ¶ 14. Takata timely submitted the first scheduled DIR on May 16, 2016. The next DIR is due to be filed on December 31, 2016, and is expected to include passenger inflators installed as original equipment on certain motor vehicles manufactured by GM (the “covered passenger inflators”).

The Amendment sets forth the following procedure under which the DIR schedule may be modified or amended:

Based on the presentation of additional test data, analysis, or other relevant and appropriate evidence, by Takata, an automobile manufacturer, or any other credible source, NHTSA may, after consultation with Takata, alter the schedule set forth in Paragraph 14 to modify or amend a DIR or to defer certain inflator types or vehicles, or a portion thereof, to a later DIR filing date. Any such evidence must be submitted to NHTSA no later than one-hundred-twenty (120) days before the relevant DIR filing date. This paragraph applies only to the DIRs scheduled to be issued on or after December 31, 2016 under the schedule established by Paragraph 14 of this Amendment.

See Amendment at ¶ 17. On July 22, 2016, NHTSA issued Enforcement Guidance Bulletin 2016-03 to inform the public of the process and procedure the Agency had established in connection with Paragraph 17 of the Amendment, as well as the standards and criteria that would guide Agency decision-making. See 81 FR 47854.

On September 2, 2016, GM filed a petition pursuant to Paragraph 17 of the Amendment and Enforcement Guidance Bulletin 2016-03. Therein, GM has requested that NHTSA modify the DIR schedule to delay the inclusion of covered GM passenger-side inflators from December 31, 2016 to December 31, 2017. This notice of receipt of GM's petition is published in accordance with Enforcement Guidance Bulletin 2016-03 and does not represent any Agency decision or other exercise of judgment concerning the merits of the petition.

II. Class of Motor Vehicles Involved

GM's petition involves certain GMT900 vehicles that contain the covered passenger inflators (designated as inflator types “SPI YP” and “PSPI-L YD”). GMT900 is a GM-specific vehicle platform that forms the structural foundation for a variety of GM trucks and sport utility vehicles, including: Chevrolet Silverado 1500, GMC Sierra 1500, Chevrolet Silverado 2500/3500, GMC Sierra 2500/3500, Chevrolet Tahoe, Chevrolet Suburban, Chevrolet Avalanche, GMC Yukon, GMC Yukon XL, Cadillac Escalade, Cadillac Escalade ESV, and Cadillac Escalade EXT.

The next Takata DIR, which is due to be filed on December 31, 2016, is expected to include the following GMT900 vehicles:

• In Zone A, model year 2012 GMT900 vehicles. Zone A comprises the following states and U.S. territories: Alabama, California, Florida, Georgia, Hawaii, Louisiana, Mississippi, South Carolina, Texas, Puerto Rico, American Samoa, Guam, the Northern Mariana Islands (Saipan), and the U.S. Virgin Islands. See Amendment at ¶ 7.a.

• In Zone B, certain model year 2009 GMT900 vehicles. Zone B comprises the following states: Arizona, Arkansas, Delaware, District of Columbia, Illinois, Indiana, Kansas, Kentucky, Maryland, Missouri, Nebraska, Nevada, New Jersey, New Mexico, North Carolina, Ohio, Oklahoma, Pennsylvania, Tennessee, Virginia, and West Virginia. See Amendment at ¶ 7.b.

• In Zone C, certain model year 2007 and 2008 GMT900 vehicles. Zone C comprises the following states: Alaska, Colorado, Connecticut, Idaho, Iowa, Maine, Massachusetts, Michigan, Minnesota, Montana, New Hampshire, New York, North Dakota, Oregon, Rhode Island, South Dakota, Utah, Vermont, Washington, Wisconsin, and Wyoming. See Amendment at ¶ 7.c.

III. Summary of GM's Petition

GM's petition states its belief that the requested modification to the DIR schedule will not pose an unreasonable risk to motor vehicle safety. In support of this contention, GM states that it has studied the long-term performance of the covered passenger inflators and has conducted an analysis of the ballistic performance of the covered passenger inflators. Based upon this analysis, GM states that the covered passenger inflators are not currently at risk of rupture. According to the petition, GM's position is based upon the following: An estimated 44,000 Takata passenger inflator deployments in GMT900 vehicles without a rupture; ballistic tests of 1055 covered passenger inflators without a rupture or sign of abnormal deployment; deployment of 12 inflators artificially exposed to additional humidity and temperature cycling without a rupture or sign of abnormal deployment; and analysis, through stress-strength interference, indicating that the propellant in older covered passenger inflators has not degraded to a sufficient degree to create rupture risk.

GM further states that the covered passenger inflators are not used by any other original equipment manufacturer and have a number of unique design features that influence burn rates and internal ballistic dynamics, including greater vent-area-to-propellant-mass ratios, steel end caps, and thinner propellant wafers. In addition, GM states that the physical environment of the GMT900 vehicles better protects the covered passenger inflators from the temperature cycling that can cause rupture. More specifically, GM notes that the GMT900 vehicles have larger interior volumes than smaller passenger cars, and are equipped with solar-absorbing windshields and side glass.

Finally, GM states that it has retained a third-party expert to conduct a long-term aging study that will estimate the service life expectancy of the covered passenger inflators in the GMT900 vehicles. GM anticipates that this study will be complete in August 2017.

For these reasons, GM requests that NHTSA amend the DIR schedule pursuant to Paragraph 17 of the Amendment to delay the inclusion of the covered passenger inflators until the December 31, 2017 DIR filing.

Authority: 49 U.S.C. 30101, et seq., 30118, 30162, 30166(b)(1), 30166(g)(1); delegation of authority at 49 CFR 1.95(a).

Issued: September 15, 2016.
Michael Brown,
Acting Director, Office of Defects Investigation.

[FR Doc. 2016-22631 Filed 9-16-16; 8:45 am]

BILLING CODE 4910-59-P